RAILROAD RETIREMENT BOARD

Sunshine Act Meetings

Notice is hereby given that the Railroad Retirement Board will hold a meeting on August 8, 2012, 10:00 a.m. at the Board's meeting room on the 8th floor of its headquarters building, 844 North Rush Street, Chicago, Illinois 60611. The agenda for this meeting follows:

Portion Open to the Public

(1) Executive Committee Reports.

(2) Proposal to Coordinate Additional Fact-Finding with Social Security Administration.

The person to contact for more information is Martha P. Rico, Secretary to the Board, Phone No. 312-751-4920.

Dated: July 20, 2012.
Martha P. Rico,
Secretary to the Board.

[FR Doc. 2012-18262 Filed 7-23-12; 4:15 pm]

BILLING CODE 7905-01-P